DEPARTMENT OF ENERGY

Extension of Comment Period, Draft Waste Incidental To Reprocessing Evaluation for Closure of Waste Management Area C at the Hanford Site, Washington

AGENCY: U.S. Department of Energy.

ACTION: Extension of public comment period.

SUMMARY: On June 4, 2018, the U.S. Department of Energy (“DOE”) published in the Federal Register a Notice of Availability of the Draft Waste Incidental to Reprocessing Evaluation for Closure of Waste Management Area C at the Hanford Site, Washington (Draft WIR Evaluation), which evaluates whether the stabilized tanks and ancillary structures in WMA C, as well as the residual material in these tanks and structures will meet the criteria in Section II.B.(2)(a) of DOE M. 435.1-1, Radioactive Waste Management Manual at closure. The original public comment period was from June 4, 2018 through September 7, 2018. This notice announces an extension of the public comment period on the Draft WIR Evaluation through November 7, 2018; any comments received after that date will be considered to the extent practical.

DATES: The comment period in the Notice of Availability, published on June 4, 2018 (83 FR 25657), is extended through November 7, 2018. Any comments received after that date will be considered to the extent practical.

ADDRESSES: Interested persons may submit comments by email to WMACDRAFTWIR@rl.gov. Alternately, written comments may also be sent by mail to: Mr. Jan Bovier, U.S. Department of Energy, Office of River Protection, P.O. Box 450, MSIN H6-60, Richland, WA 99354.

The Draft WIR Evaluation is available on the internet at: https://www.hanford.gov/page.cfm/WasteManagementAreaC and is also publicly available for review at the following locations: U.S. DOE Public Reading Room, 1000 Independence Avenue SW, Washington, DC 20585, phone: (202) 586-5955, or fax: (202) 586-0575; and U.S. DOE Public Reading Room located at 2770 University Drive, Consolidated Information Center (CIC), Room 101L, Richland, WA 99354, phone: (509) 372-7303.

FOR FURTHER INFORMATION CONTACT: Mr. Jan Bovier by email at Jan_B_Bovier@orp.doe.gov, by mail at U.S. Department of Energy, Office of River Protection, P.O. Box 450, MSIN H6-60, Richland, WA 99354, or by phone at (509) 376-9630.

SUPPLEMENTARY INFORMATION: On June 4, 2018, DOE published in the Federal Register a notice of availability of the Draft WIR Evaluation for comment by States, Tribal Nations, and the public (83 FR 25657). The original public comment period was from June 4, 2018 through September 7, 2018.

In response to several requests, DOE is extending the public comment period by 60 days, through November 7, 2018. DOE will consider comments received after that date to the extent practical.

DOE will consider comments from States, Tribal Nations and the public, as well as NRC consultative recommendations, prior to finalizing DOE's analyses and prior to issuing a final WIR Evaluation. Based on the final WIR Evaluation, DOE may determine (in a WIR determination) whether the stabilized tanks, residuals and ancillary structures in WMA C at closure meet the criteria in Section II.B.(2)(a) of DOE M. 435.1-1, Radioactive Waste Management Manual, are not high-level radioactive waste, and are to be managed as low-level radioactive waste.

Signed in Washington, DC, on August 10, 2018.
Anne Marie White,
Assistant Secretary for Environmental Management.

[FR Doc. 2018-17687 Filed 8-15-18; 8:45 am]

BILLING CODE 6450-01-P